DEPARTMENT OF DEFENSE

Department of the Army

Availability of the Record of Decision for the Construction and the Operation of a Battle Area Complex and a Combined Arms Collective Training Facility Within U.S. Army Training Lands in Alaska

Correction

In notice document 06-6639 beginning on page 43718 in the issue of Wednesday, August 2, 2006, make the following correction:

On page 43719, in the first column, under the heading FOR FURTHER INFORMATION CONTACT, in the last line, “kirk.gohle@richardson.army.mil” should read “kirk.gohlke@richardson.army.mil”.

[FR Doc. C6-6639 Filed 8-9-06; 8:45 am]

BILLING CODE 1505-01-D

DEPARTMENT OF HOUSING AND URBAN DEVELOPMENT

[Docket No. FR-5041-N-28]

Notice of Proposed Information Collection: Comment Request; Manufactured Home Construction and Safety Standards Program

Correction

In notice document 06-6563 appearing on page 43206 in the issue of Monday, July 31, 2006, make the following correction:

On page 43206, in the first column, under the heading DATES, in the first and second lines, “September 29, 2007” should read “September 29, 2006”.

[FR Doc. C6-6563 Filed 8-9-06; 8:45 am]

BILLING CODE 1505-01-D